DEPARTMENT OF COMMERCE

Foreign-Trade Zones Board

[Order No. 1808]

Expansion/Reorganization of Foreign-Trade Zone 29, Louisville, KY

Pursuant to its authority under the Foreign-Trade Zones Act of June 18, 1934, as amended (19 U.S.C. 81a-81u), the Foreign-Trade Zones Board (the Board) adopts the following Order:

Whereas, the Louisville & Jefferson County Riverport Authority, grantee of Foreign-Trade Zone 29, submitted an application to the Board for authority to expand FTZ 29 in Henderson County, Kentucky, adjacent to the Owensboro/Evansville Customs and Border Protection port of entry (FTZ Docket 45-2011, filed 6-28-2011);

Whereas, notice inviting public comment has been given in the Federal Register (76 FR 39069-39070, 7/5/11) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 29 is approved, subject to the FTZ Act and the Board's regulations, including Section 400.28, and to the Board's standard 2,000-acre activation limit for the overall general-purpose zone project, and further subject to a sunset provision that would terminate authority on January 31, 2017 for Sites 2, 3, 7 and 10 where no activity has occurred under FTZ procedures before that date.

Signed at Washington, DC, this 31st day of January 2012.
Paul Piquado,
Assistant Secretary of Commerce for Import Administration, Alternate Chairman, Foreign-Trade Zones Board.
Andrew McGilvray,
Executive Secretary.

[FR Doc. 2012-2799 Filed 2-6-12; 8:45 am]

BILLING CODE P